ENVIRONMENTAL PROTECTION AGENCY

[ER-FRL-9004-9]

Environmental Impacts Statements; Notice of Availability

Responsible Agency: Office of Federal Activities, General Information (202) 564-7146 or http://www.epa.gov/compliance/nepa/.

Weekly receipt of Environmental Impact Statements

Filed 08/27/2012 through 08/31/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Starting October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp

EIS No. 20120286, Final EIS, BR, WA, Odessa Subarea Special Study, Columbia Basin Project, To Replace Groundwater Currently Used for Irrigation, Grant, Adams, Walla Walla and Franklin Counties, WA, Review Period Ends: 10/09/2012, Contact: Candace McKinley 509-575-5848 ext. 603.

EIS No. 20120287, Final EIS, FHWA, TX, Grand Parkway (State Highway 99) Segment C Construction, From US 59 to State Highway (SH) 288, USACE Section 404 Permit, Funding, Fort Bend and Brazoria Counties, TX, Review Period Ends: 10/09/2012, Contact: Gregory S. Punske 512-536-5900.

EIS No. 20120288, Final Supplement, USFS, OR, North Fork Burnt River Mining, New Information and Clarification of Previous Analyses, Whitman Ranger District, Wallowa-Whitman National Forest, Baker County, OR, Review Period Ends: 10/09/2012, Contact: Sophia Millar 541-263-1735.

EIS No. 20120289, Final EIS, USFS, SD, Calumet Project Area, Multiple Resources Management Actions, Black Hills National Forest, Mystic Ranger District, Pennington County, SD, Review Period Ends: 10/09/2012, Contact: Jon Swansfield 605-343-1567.

EIS No. 20120290, Final EIS, USACE, TX, Freeport Harbor Channel Improvement Project, Proposes to Deepen and Widen the Freeport Harbor Channel and Associated Turning Basins, Brazoria County, TX, Review Period Ends: 10/09/2012, Contact: Janelle Stokes 409-766-3039.

EIS No. 20120291, Draft EIS, BR, CO, Arkansas Valley Conduit and Long-Term Excess Capacity, Fryingpan-Arkansas Project, Bent, Chaffee, Crowley, El Paso Pueblo, Fremont, Kiowa, Otero, and Prowers Counties, CO, Comment Period Ends: 10/30/2012, Contact: J. Signe Snortland 701-221-1278.

EIS No. 20120292, Final EIS, USFS, CA, Giant Sequoia National Monument, Sequoia National Forest Plan Amendment, Tulare, Kerns, Fresno Counties, CA, Review Period Ends: 10/09/2012, Contact: Annette Fredette 559-784-1500, ext. 1138.

EIS No. 20120293, Final EIS, USFS, NM, Taos Ski Valley's 2010 Master Development Plan—Phase 1 Projects, Questa Ranger District, Carson National Forest, Taos County, NM, Review Period Ends: 10/09/2012, Contact: Audrey Nes Kuykendall 575-758-6212.

EIS No. 20120294, Draft EIS, USN, OR, Naval Weapons Systems Training Facility Boardman, Military Readiness Activities, OR, Comment Period Ends: 11/06/2012, Contact: Amy Burt 360-396-0924.

EIS No. 20120295, Draft Supplement, AFS, ID, Scriver Integrated Restoration Project, Updated and Additional Information, Identifying Permits, Licenses and Entitlements that were not identified in the DEIS, Improve Watershed Conditions by Reducing Road-Related Impacts to Wildlife, Fish, Soil, and Water Resources and Restoration of 2010 Forest Plan Vegetation Conditions, Emmett Ranger District, Boise National Forest, Boise and Valley Counties, ID, Comment Period Ends: 10/22/2012, Contact: Randall Hayman 208-373-4157.

Amended Notices

EIS No. 20100440, Draft EIS, USFS, MT, Warm Springs Habitat Enhancement Project, Restoring and Promoting Key Wildlife Habitat Components by Managing Vegetation, Reducing Fuels, and Promoting a more Resilient Fire Adapted Ecosystem, Helena Ranger District, Helena National Forest, Jefferson County, MT, Comment Period Ends: 10/22/2012, Contact: Liz Van Genderen 406-495-3749. Revision to FR Notice Published 11/12/2010; The U.S. Department of Agriculture's Forest Service is reopening the Comment period to end 10/22/2012 due to errata on page 321 of the DEIS.

EIS No. 20120214, Draft Supplement, NPS, 00, Yellowstone National Park Draft Winter Use Plan, Addressing the Issue of Oversnow Vehicle Use in the Interior of the Park, Implementation, WY, MT and ID, Comment Period Ends: 10/09/2012, Contact: David Jacob 303987-6970. Revision to FR Notice Published 07/06/2012; The U.S. Department of the Interior's National Park Service is reopening the comment period to end 10/09/2012.

Dated: September 4, 2012.
Cliff Rader,
Director, NEPA Compliance Division, Office of Federal Activities.

[FR Doc. 2012-22080 Filed 9-6-12; 8:45 am]

BILLING CODE 6560-50-P